DEPARTMENT OF TRANSPORTATION

Surface Transportation Board

[Docket No. AB 290 (Sub-No. 364X)]

Norfolk Southern Railway Company—Abandonment Exemption—in Hopewell, Va.

On July 31, 2014, Norfolk Southern Railway Company (NSR) filed with the Surface Transportation Board (Board) a petition under 49 U.S.C. 10502 for exemption from the prior approval requirements of 49 U.S.C. 10903 to abandon a 0.46-mile line of railroad, part of the City Point Branch, between milepost CP 9.40 and milepost CP 9.86 in the City of Hopewell, Va. (the Line).¹ The Line traverses United States Postal Service Zip Code 23860, and includes the station of Hopewell. NSR has requested expedited consideration of its petition.

¹ NSR states that the sole shipper on the Line, Regional Enterprises (Regional), supports the abandonment. According to NSR, the abandonment is intended to facilitate Regional's plan to acquire the Line from NSR as private track and incorporate it into Regional's transload facility.

NSR states that the Line does not contain federally granted right-of-way. Any documentation in NSR's possession will be made available promptly to those requesting it.

The interest of railroad employees will be protected by the conditions set forth in Oregon Short Line Railroad—Abandonment Portion Goshen Branch Between Firth & Ammon, In Bingham & Bonneville Counties, Idaho, 360 I.C.C. 91 (1979).

By issuance of this notice, the Board is instituting an exemption proceeding pursuant to 49 U.S.C. 10502(b). A final decision will be issued by November 18, 2014, or sooner if expedited.

Any offer of financial assistance (OFA) under 49 CFR 1152.27(b)(2) will be due no later than November 28, 2014, or 10 days after service of a decision granting the petition for exemption, whichever occurs first. Each OFA must be accompanied by a $1,600 filing fee.²

² See 49 CFR 1002.2(f)(25).

All interested persons should be aware that, following abandonment, the Line may be suitable for other public use, including interim trail use. Any request for a public use condition under 49 CFR 1152.28 or for interim trail use/rail banking under 49 CFR 1152.29 will be due no later than September 9, 2014. Each interim trail use request must be accompanied by a $300 filing fee.³

³ See Regulations Governing Fees for Servs. Performed in Connection with Licensing & Related Servs.—2014 Update, EP 542 (Sub-No. 22), slip op. at 17, item 27(i) (STB served July 11, 2014).

All filings in response to this notice must refer to Docket No. AB 290 (Sub-No. 364X) and must be sent to: (1) Surface Transportation Board, 395 E Street SW., Washington, DC 20423-0001; and (2) William A. Mullins, Baker & Miller PLLC, 2401 Pennsylvania Ave. NW., Suite 300, Washington, DC 20037. Replies to the petition are due on or before September 9, 2014.

Persons seeking further information concerning abandonment procedures may contact the Board's Office of Public Assistance, Governmental Affairs and Compliance at (202) 245-0238 or refer to the full abandonment or discontinuance regulations at 49 CFR part 1152. Questions concerning environmental issues may be directed to the Board's Office of Environmental Analysis (OEA) at (202) 245-0305. [Assistance for the hearing impaired is available through the Federal Information Relay Service (FIRS) at 1-800-877-8339.]

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA typically will be within 30 days of its service.

Board decisions and notices are available on our Web site at WWW.STB.DOT.GOV.

Decided: August 14, 2014.
By the Board, Rachel D. Campbell, Director, Office of Proceedings.
Derrick A. Gardner,
Clearance Clerk.

[FR Doc. 2014-19739 Filed 8-19-14; 8:45 am]

BILLING CODE 4915-01-P